DEPARTMENT OF DEFENSE

Department of the Army

Record of Decision for the Final Environmental Impact Statement for the Digital Multi-Purpose Range Complex at Fort Benning, GA

AGENCY: Department of the Army, DOD.

ACTION: Notice of availability.

SUMMARY: The Department of the Army announces the availability of the Record of Decision (ROD) for the Final Environmental Impact Statement (EIS) for the Digital Multi-Purpose Range Complex (DMPRC) at Fort Benning, GA. The ROD details the Army's decision with respect to the proposed action and alternatives considered in the EIS, and the rationale for the decision. Based on the EIS and other factors, the Army has decided to implement its preferred alternative. This decision allows the Army to proceed with the necessary actions to allow the construction, operation and maintenance of a DMPRC at Fort Benning. The decision also affirms the Army's commitment to implementing a series of mitigations and monitoring measures, as identified in the EIS, to offset potential adverse environmental impacts associated with the proposed action.

ADDRESSES: Interested parties desiring to review the ROD may obtain a copy by contacting Mr. Richard McDowell, Public Affairs Officer, U.S. Army Infantry Center, ATTN: ATZB-PO, Fort Benning, GA, 31905-5122 or by sending an electronic mail request to mcdowellr@benning.army.mil. The ROD may also be viewed on the Fort Benning Web site (http://www-benning.army.mil/EMD/dmprcLegal&PublicNotices.htm).

FOR FURTHER INFORMATION CONTACT: Mr. Richard McDowell at 706-545-2211.

SUPPLEMENTARY INFORMATION: In compliance with the National Environmental Policy Act, the Army prepared an EIS for the construction, operation, and maintenance of the DMPRC. The EIS identified the relevant environmental and socioeconomic impacts of the proposed action and alternatives on the biological, physical, and cultural environment.

As a result of this decision, the Army will proceed with the necessary actions to begin to construct and operate the facilities described in the Preferred Alternative (Alternative III). Although the Environmentally Preferred Alternative (Alternative I-No Action) generally had few environmental impacts than the two action alternatives, it had significant adverse impacts from noise and did not meet the overall training needs of the installation. Noise was a major concern raised in public comments. The Army Preferred Alternative substantially reduces adverse noise impacts on the communities near Ft. Benning by moving the training range to a more interior portion of the installation. Alternative II would also meet the basic purpose and need for the DMPRC, but would have more adverse environmental effects that Alternative III. All practicable measures will be used to mitigate the impacts. The mitigation measures are listed in the ROD. The proposed project site is an approximately 1,800 acre area in the D13 area that would utilize an existing dudded impact area, K15. The DMPRC would contain 35 stationary infantry targets, 11 evasive moving armor targets, 55 stationary armor targets, two defense trenches with foxholes, 19 defilade positions (Abrams Tank and Bradley Fighting Vehicle hiding places), four tank trails, eight low-water crossings (four on Bonham Creek and four on Sally Beach). A helipad will also be constructed for use in emergency evacuations. The following support facilities would be constructed in an approximately 20-acre area to the southwest of the range and target firing area and just off of Hourglass Road: latrines; bivouac pads; a covered mess (dining area); vehicle holding and maintenance areas; a well house; water distribution and wastewater collection/treatment systems; a secondary power and data distribution system; a Control Building; and buildings for After Action Review; general instruction; operations and storage; central maintenance and for ammunition breakdown (with ammunition dock).

Michael Q. Frnka,
Director Public Works Division, Installation Management Agency, Southeast Region.

[FR Doc. 04-18000 Filed 8-5-04; 8:45 am]

BILLING CODE 3710-08-M